DEPARTMENT OF THE INTERIOR

Bureau of Land Management

[LLNVS03000.L51010000.ER0000.F09F8590; NVN-84359; 9-08807: TAS:14X5017]

Notice of Intent to Prepare an Environmental Impact Statement for the Proposed Solar Millennium, LLC, Amargosa Farm Road Solar Energy Project, Nye County, NV

AGENCY: Bureau of Land Management, Interior.

ACTION: Notice of Intent.

SUMMARY: The Bureau of Land Management (BLM) Field Office, Southern Nevada District, Pahrump Field Office intends to prepare an environmental impact statement (EIS) for the Amargosa Farm Road Solar Energy Project, located on public lands in Nye County, Nevada and by this notice is announcing the beginning of the scoping process and soliciting input on the identification of issues.

DATES: This notice initiates public scoping. Scoping comments shall be submitted on or before August 12, 2009.

The BLM will announce public scoping meetings to identify relevant issues through local news media, newsletters, and the BLM Web site (http://www.blm.gov/nv/st/en/fo/lvfo.html) at least 15 days prior to each meeting. We will provide additional opportunities for public participation upon publication of the Draft RMP/EIS, including a 90-day public comment period.

ADDRESSES: Comments related to the project may be submitted by any of the following methods:

• E-mail: solar_millennium@blm.gov.

• Fax: (702) 515-5064 (attention: Gregory Helseth).

• Mail: Bureau of Land Management, Southern Nevada District Office, Pahrump Field Office, Attn: Gregory Helseth, Project Manager, 4701 North Torrey Pines Drive, Las Vegas, NV 89130-2301.

Documents pertinent to this project may be examined at the Pahrump Field Office. Additional opportunities for public participation will be provided on publication of the draft EIS.

FOR FURTHER INFORMATION CONTACT: For further information and/or to have your name added to the mailing list, call Gregory Helseth, (702) 515-5173, or e-mail: gregory_helseth@blm.gov.

SUPPLEMENTARY INFORMATION: Solar Millennium, LLC, has submitted a right-of-way application to BLM to construct two concentrated solar thermal parabolic trough power plant facilities on public lands, approximately 80 miles northwest of Las Vegas, in Nye County, Nevada. The Project site would consist of approximately 4,350 acres of public land located in Amargosa Valley, south of Highway 95. Each facility is expected to operate for approximately 30 years. Each plant would utilize solar thermal parabolic trough technology, consisting of a 242 megawatt (MW) power block equipped with thermal storage tanks capable of producing additional energy for 3.5 hours after sundown, and a solar field composed of parabolic trough mirrors.

The solar field would be highly modular and would consist of “loops,” each containing 4 curved glass mirror collectors. A loop is 22m wide and 400m long (72.18′ wide and 1312.33′ long). The solar field would consist of approximately 400 loops. The orientation of the collectors would be north-south, and the collectors would track the sun from east to west during the day. The collector would focus the sun's direct beam radiation on a receiver tube. The row of collectors would have a hydraulic drive unit with sensors to track the sun's path throughout the day. The solar energy would heat a transfer fluid which cycles through a series of heat exchangers to generate steam, which drives a steam turbine to ultimately generate electricity. The electric output of the Project would be generated entirely by solar energy. No electricity would be generated by the use of fossil fuel in these facilities.

The proposed Project facilities would include the solar fields, power blocks, buildings, parking area, laydown area, stormwater retention pond, and evaporating ponds. A single overhead 230 kilovolt (kV) transmission line would connect the facilities to the nearby Valley Electric Valley substation, located on Anvil Road. Additional elements of the Project would include access roads and optional water pipeline. The proposed Project may require the rerouting of a road and an existing low voltage distribution power line. The EIS will analyze the site-specific impacts of the Project on air quality, biological resources, cultural resources, water resources, geological resources, paleontological resources, public health, socioeconomics, soils, traffic and transportation, and visual resources. It will analyze the geologic hazards, hazardous materials handling, land use and airspace, noise, waste management, worker safety, and fire protection potentially associated with the Project. It will also analyze facility design engineering, efficiency, and reliability; transmission system engineering; and transmission line safety and nuisance. Native American Tribal consultations will be conducted in accordance with policy, and Tribal concerns will be given due consideration. The EIS will include the consideration of any impacts on Indian trust assets.

Before including your address, phone number, e-mail address, or other personal identifying information in your comment, you should be aware that your entire comment, including your personal identifying information, may be made publicly available at any time. While you can ask us in your comment to withhold your personal identifying information from public review, we cannot guarantee that we will be able to do so. Federal, State, and local agencies, as well as individuals or organizations that may be interested in or affected by the BLM's decision on this project are invited to participate in the scoping process and, if eligible, may requested or be requested by the BLM to participate as a cooperating agency.

(Authority: 43 CFR Part 2800)

Patrick Putnam,
Field Manager, Pahrump Field Office.

[FR Doc. E9-16415 Filed 7-10-09; 8:45 am]

BILLING CODE 4310-HC-P